DEPARTMENT OF COMMERCE

National Oceanic and Atmospheric Administration

RIN 0648-XA699

Mid-Atlantic Fishery Management Council (MAFMC); Meeting

AGENCY: National Marine Fisheries Service (NMFS), National Oceanic and Atmospheric Administration (NOAA), Commerce.

ACTION: Notice of public meeting.

SUMMARY: The Mid-Atlantic Fishery Management Council's Squid, Mackerel, Butterfish Advisory Panel will hold a public meeting.

DATES: The meeting will be held on September 30, 2011, at 10 a.m. until 4 p.m.

ADDRESSES: The meeting will be held via webinar with a listening station also available at the Council Address below. Webinar registration: https://www1.gotomeeting.com/register/332515609Council address: Mid-Atlantic Fishery Management Council, 800 N. State Street, Suite 201, Dover, DE 19901; telephone: (302) 674-2331.

FOR FURTHER INFORMATION CONTACT: Christopher M. Moore Ph.D., Executive Director, Mid-Atlantic Fishery Management Council, 800 N. State Street, Suite 201, Dover, DE 19901; telephone: (302) 526-5255.

SUPPLEMENTARY INFORMATION: The Advisory Panel will develop recommendations for the Council regarding Amendment 14 to the Atlantic Mackerel, Squid, and Butterfish Fishery Management Plan. See http://www.mafmc.org/fmp/msb_files/msbAm14current.htm for details on the amendment, which deals with catch and management of river herrings and shads in the Atlantic mackerel, squid, and butterfish fisheries.

Special Accommodations

The meeting is physically accessible to people with disabilities. Requests for sign language interpretation or other auxiliary aids should be directed to M. Jan Saunders at the Mid-Atlantic Council Office (302) 526-5251 at least 5 days prior to the meeting date.

Dated: September 9, 2011.
Tracey L. Thompson,
Acting Director, Office of Sustainable Fisheries, National Marine Fisheries Service.

[FR Doc. 2011-23460 Filed 9-13-11; 8:45 am]

BILLING CODE 3510-22-P